OFFICE OF PERSONNEL MANAGEMENT

Excepted Service

AGENCY: U.S. Office of Personnel Management (OPM).

ACTION: Notice.

SUMMARY: This notice identifies Schedule A, B, and C appointing authorities applicable to a single agency that were established or revoked from November 1, 2012, to November 31, 2012.

FOR FURTHER INFORMATION CONTACT: Senior Executive Resources Services, Executive Resources and Employee Development, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

No schedule A authorities to report during November 2012.

Schedule B

No schedule B authorities to report during November 2012.

Schedule C

The following Schedule C appointing authorities were approved during November 2012.

Agency name | Organization name | Position title | Authorization No. | Effective date
DEPARTMENT OF COMMERCE | Office of Deputy Assistant Secretary for Legislative and Intergovernmental Affairs | Senior Advisor | DC130010 | 11/6/2012
| Office of Executive Secretariat | Special Assistant | DC130012 | 11/6/2012
| Office of the Deputy Secretary | Special Assistant | DC130013 | 11/29/2012
DEPARTMENT OF DEFENSE | Office of Assistant Secretary of Defense (Public Affairs) | Special Assistant | DD130008 | 11/1/2012
| Washington Headquarters Services | Staff Assistant | DD130009 | 11/9/2012
| Office of Assistant Secretary of Defense (Public Affairs) | Speechwriter | DD130012 | 11/9/2012
DEPARTMENT OF EDUCATION | Office of the Under Secretary | Special Assistant | DB130004 | 11/15/2012
| Office of Elementary and Secondary Education | Special Assistant | DB120099 | 11/20/2012
DEPARTMENT OF ENERGY | Office of Public Affairs | Project Coordinator for Digital Media | DE130003 | 11/15/2012
DEPARTMENT OF HEALTH AND HUMAN SERVICES | Office of the Assistant Secretary for Public Affairs | Communications Director for Human Services | DH130007 | 11/9/2012
DEPARTMENT OF JUSTICE | Civil Rights Division | Senior Counselor | DJ130013 | 11/20/2012
SECURITIES AND EXCHANGE COMMISSION | Division of Risk, Strategy and Financial Innovation | Confidential Assistant | SE130001 | 11/6/2012
DEPARTMENT OF STATE | Office of the Chief of Protocol | Protocol Officer | DS130018 | 11/20/2012
| Bureau of Energy Resources | Staff Assistant | DS130013 | 11/27/2012

The following Schedule C appointing authorities were revoked during November 2012.

Agency | Organization | Position title | Authorization No. | Vacate date
COMMISSION ON CIVIL RIGHTS | Commissioners | Special Assistant to the Commissioner | CC120002 | 11/4/2012
DEPARTMENT OF COMMERCE | Office of the Chief of Staff | Protocol Officer | DC110040 | 11/2/2012
DEPARTMENT OF EDUCATION | Office for Civil Rights | Senior Counsel | DB120023 | 11/3/2012
|  | Senior Counsel | DB120055 | 11/3/2012
| Office of Vocational and Adult Education | Special Assistant | DB110119 | 11/17/2012
| Office of Elementary and Secondary Education | Deputy Assistant Secretary for Policy and School Turnaround | DB120003 | 11/20/2012
DEPARTMENT OF HEALTH AND HUMAN SERVICES | Office of the Assistant Secretary for Public Affairs | Confidential Assistant | DH110118 | 11/7/2012
DEPARTMENT OF HOMELAND SECURITY | U.S. Customs and Border Protection | Counselor to the Commissioner | DM110203 | 11/2/2012
DEPARTMENT OF HOUSING AND URBAN DEVELOPMENT | Office of Public Affairs | Senior Speechwriter | DU090112 | 11/16/2012
DEPARTMENT OF JUSTICE | Office of Public Affairs | Speechwriter | DJ100015 | 11/16/2012
| Office of the Deputy Attorney General | Deputy Chief of Staff and Senior Counsel | DJ120012 | 11/17/2012
DEPARTMENT OF STATE | Office of the Under Secretary for Civilian Security, Democracy and Human Rights | Staff Assistant | DS090140 | 11/2/2012
| Bureau for Education and Cultural Affairs | Staff Assistant | DS110073 | 11/14/2012
DEPARTMENT OF THE INTERIOR | Secretary's Immediate Office | Senior Advisor for Alaskan Affairs | DI090123 | 11/26/2012
DEPARTMENT OF THE NAVY | Office of the Under Secretary of the Navy | Special Assistant | DN090080 | 11/18/2012
EXPORT-IMPORT BANK | Board of Directors | Senior Advisor to the Chairman | EB090008 | 11/16/2012
OFFICE OF THE SECRETARY OF DEFENSE | Washington Headquarters Services | Staff Assistant | DD110112 | 11/17/2012
| Office of Assistant Secretary of Defense (Public Affairs) | Speechwriter | DD110122 | 11/17/2012
SMALL BUSINESS ADMINISTRATION | Office of Capital Access | Special Advisor to the Associate Administrator for Capital Access | SB110044 | 11/14/2012

Authority: 5 U.S.C. 3301 and 3302; E.O. 10577, 3 CFR, 1954-1958 Comp., p. 218.

U.S. Office of Personnel Management.
John Berry,
Director.

[FR Doc. 2013-01279 Filed 1-22-13; 8:45 am]

BILLING CODE 6325-39-P